DEPARTMENT OF HOMELAND SECURITY

Coast Guard

33 CFR Part 151

[USCG-2006-24580]

Ballast Water Treatment Technology and Analysis Methods

AGENCY: Coast Guard, DHS.

ACTION: Request for public comments.

SUMMARY: The Coast Guard seeks public assistance in gathering information regarding the status of research and development of ballast water management systems and analytical technologies/methods used in testing ballast water management systems. The Coast Guard may then provide this information to the 55th Session of the International Maritime Organization's (IMO) Marine Environment Protection Committee (MEPC 55) to inform the Committee during the review of the status of the development of ballast water management systems. Our specific interest is in ballast water management systems that have been rigorously tested both in land-based test platforms and on board ships. We are also interested in technologies/methods for rapid detection, enumeration, and determination of organism viabilities in ballast water.

DATES: Comments and related material must reach the Docket Management Facility on or before Friday, June 23, 2006.

ADDRESSES: You may submit comments identified by Coast Guard docket number USCG-2006-24580 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, contact LT Heather St. Pierre, Environmental Standards Division, U.S. Coast Guard, via the ballast water information line at 202-267-2716 or via e-mail at environmentalstandards@comdt.uscg.mil. If you have questions on viewing or submitting material to the docket, call Renee V. Wright, Program Manager, Docket Operations, telephone 202-493-0402.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-24580) and give the reason for each comment. You may submit your comments by electronic means, mail, fax, or delivery to the Docket Management Facility at the address under ADDRESSES; but please submit your comments by only one means. If you submit them by mail or delivery, submit them in an unbound format, no larger than 8½″ by 11″, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

The Coast Guard is interested in receiving information about the current status of the development of ballast water management systems. Specifically, the Coast Guard requests comments to be submitted based on two categories:

• Ballast water management systems that have been carefully tested at all scales, including rigorous land-based testing and tests on board ships; and

• Technologies/methods for rapid detection, enumeration, and determination of organism viabilities in ballast water.

Ballast Water Management System Submissions: For those submissions pertaining to shipboard ballast water management systems, specific areas must be addressed for the submission to be considered pertinent to the discussion during the Review:

(1) Types and sizes of ships, ballast capacities, flow rates, and the geographic region in which the testing occurred;

(2) The availability of commercial infrastructure and support, including sufficient manufacturing capacity to meet initial requirements of the IMO's Ballast Water Convention (At MEPC 53, it was estimated that between 300 and 500 vessels may be subject to the Convention's discharge requirement in 2009);

(3) Concise explanation of system requirements, including space, power, consumables, maintenance and manning requirements; and

(4) Concise quantitative description of the technology's ability to meet IMO's Ballast Water Performance Standard (Regulation D-2) under shipboard circumstances identified in (1) above, including specific information about the ships on which the management system meets this performance standard, and whether or not the IMO guidelines for approval of ballast water management systems were employed.

Testing Technology/Methodology Submissions: For those submissions pertaining to testing ballast water, submissions must address the following areas:

(1) Types of organisms to which the test technology or method applies;

(2) The intended purpose of the technology/method (detection, enumeration, viability assessment, etc.);

(3) Explanation of how this technology/method will facilitate testing of ballast water treatment systems; and

(4) Cost of the technology/method, to include capital costs and maintenance/annual costs (including personnel, special training, and expendable supplies).

General Submission Information: Submissions for both treatment and testing technologies/methods must be five pages or less (Times New Roman font size 12, single spaced with a minimum of one-inch margins) and relate to the specific classifications of organisms as expressed in the Ballast Water Performance Standard (Regulation D-2) of the IMO's International Convention for the Control and Management of Ships' Ballast Water & Sediments. If deemed applicable and pertinent to the discussions of the meeting at IMO, the United States may submit the documents on these technologies and methods to MEPC 55 as information papers. These information papers are documents submitted to the Committee to make note of, and sample papers can be requested via the e-mail address and phone number listed under FOR FURTHER INFORMATION CONTACT. The Coast Guard appreciates any assistance and information offered by the public; however, providing this information to the Coast Guard does not guarantee the information will be submitted to IMO.

Supporting information—including relevant citations for reported results, not intended for wider dissemination—may also be provided. Such material need not comply with the formatting and page limitations described above. Any material considered proprietary or commercially sensitive should be plainly marked as such. The Coast Guard will retain all information received, and may use the information for development and implementation of regulations and policies.

Dated: April 27, 2006.
Howard L. Hime,
Acting Director of Standards, Assistant Commandant for Prevention, U.S. Coast Guard.

[FR Doc. E6-6628 Filed 5-1-06; 8:45 am]

BILLING CODE 4910-15-P